DEPARTMENT OF COMMERCE

International Trade Administration

[A-570-822, A-583-820]

Helical Spring Lock Washers From People's Republic of China and Taiwan: Final Results of Fifth Sunset Review and Revocation of Order

AGENCY: Enforcement and Compliance, International Trade Administration, Department of Commerce.

SUMMARY: On April 1, 2022, the U.S. Department of Commerce (Commerce) initiated the fifth sunset review of the antidumping duty (AD) orders on helical spring lock washers from the People's Republic of China (China) and Taiwan. Because no domestic interested party responded to the sunset review notice of initiation by the application deadline, Commerce is revoking the AD orders on helical spring lock washers from China and Taiwan.

DATES: Applicable May 26, 2022.

FOR FURTHER INFORMATION CONTACT: Richard Roberts, AD/AD Operations, Office I, Enforcement and Compliance, International Trade Administration, U.S. Department of Commerce, 1401 Constitution Avenue NW, Washington, DC 20230; telephone: (202) 482-3464.

SUPPLEMENTARY INFORMATION:

Background

On June 28 and October 19, 1993, Commerce issued the AD orders on helical spring lock washers from Taiwan and China, respectively.¹ On May 26, 2017, Commerce published the most recent continuation of the Orders on helical spring lock washers from China and Taiwan.² On April 1, 2022, Commerce initiated the current sunset review of the Orders pursuant to section 751(c) of the Tariff Act of 1930, as amended (the Act).³

¹ See Antidumping Duty Order: Certain Helical Spring Lock Washers from Taiwan, 58 FR 34567 (June 28, 1993); and Antidumping Duty Order: Certain Helical Spring Lock Washers from the People's Republic of China, 58 FR 53914 (October 19, 1993) (collectively, Orders).

² See Certain Helical Spring Lock Washers from the People's Republic of China and Taiwan: Continuation of Antidumping Duty Orders, 82 FR 24301 (May 26, 2017) (2017 Continuation Notice).

³ See Initiation of Five-Year (Sunset) Reviews, 87 FR 19069 (April 1, 2022).

We did not receive a notice to participate in this sunset review from any domestic interested party, pursuant to 19 CFR 351.218(d)(1)(i). As a result, in accordance with 19 CFR 351.218(d)(1)(iii)(A), Commerce determined that no domestic interested party intends to participate in the sunset review. On April 22, 2022, Commerce notified the International Trade Commission in writing that we intended to revoke the Orders on helical spring lock washers from China and Taiwan, consistent with 19 CFR 351.218(d)(1)(iii)(B).⁴

⁴ See Commerce's Letter, “Sunset Reviews for April 2022,” dated April 22, 2022.

Scope of the Orders

The products covered by the Orders are helical spring lock washers of carbon steel, of carbon alloy steel, or of stainless steel, heat-treated or non-heat-treated, plated or non-plated, with ends that are off-line. Helical spring lock washers are designed to: (1) function as a spring to compensate for developed looseness between the component parts of a fastened assembly; (2) distribute the load over a larger area for screws or bolts; and (3) provide a hardened bearing surface. The scope does not include internal or external tooth washers, nor does it include spring lock washers made of other metals, such as copper.

Helical spring lock washers subject to the Orders are currently classifiable under subheadings 7318.21.0000, 7318.21.0030, and 7318.21.0090 of the Harmonized Tariff Schedule of the United States (HTSUS). Although the HTSUS subheadings are provided for convenience and customs purposes, the written description of the scope of these Orders is dispositive.

Revocation

Pursuant to section 751(c)(3)(A) of the Act and 19 CFR 351.218(d)(1)(iii)(B)(3), if no domestic interested party responds to a notice of initiation, Commerce shall, within 90 days after the initiation of review, revoke the order. Because no domestic interested party filed a notice of intent to participate in these sunset reviews, we determine that no domestic interested party is participating in these sunset reviews. Therefore, we are revoking the Orders.

Effective Date of Revocation

Pursuant to section 751(c)(3)(A) of the Act and 19 CFR 351.222(i)(2)(i), Commerce intends to instruct U.S. Customs and Border Protection to terminate the suspension of liquidation of the merchandise subject to these Orders entered, or withdrawn from the warehouse, on or after May 26, 2022, the fifth anniversary of the date of publication of the last continuation notice.⁵ Entries of subject merchandise prior to the effective date of revocation will continue to be subject to suspension of liquidation and AD deposit requirements. Commerce may conduct administrative reviews of subject merchandise entered prior to the effective date of revocation in response to appropriately filed requests for review.

⁵ See 2017 Continuation Notice.

Notifications to Interested Parties

We are issuing and publishing these final results in accordance with sections 751(c) and 777(i)(1) of the Act, and 19 CFR 351.218(d)(1)(iii)(B)(3) and 351.222(i)(1)(i).

Dated: June 7, 2022.
Lisa W. Wang,
Assistant Secretary for Enforcement and Compliance.

[FR Doc. 2022-12710 Filed 6-10-22; 8:45 am]

BILLING CODE 3510-DS-P